DEPARTMENT OF TRANSPORTATION

Pipeline and Hazardous Materials Safety Administration

[Docket No. PHMSA-RSPA-1998-4470]

Pipeline Safety: Meetings of the Technical Pipeline Safety Standards Committee and Technical Hazardous Liquid Pipeline Safety Standards Committee

AGENCY: Pipeline and Hazardous Materials Safety Administration (PHMSA), DOT.

ACTION: Notice of advisory committee meetings.

SUMMARY: This notice announces public meetings of the Technical Pipeline Safety Standards Committee (TPSSC) and of the Technical Hazardous Liquid Pipeline Safety Standards Committee (THLPSSC).

The committees will meet to discuss two important regulatory proposals and several future regulatory initiatives.

DATES: The meetings will be on December 11 and 12, 2008. The TPSSC and the THLPSSC will meet jointly on Thursday, December 11 from 9 a.m. to 5 p.m., and the TPSSC will meet on Friday, December 12 from 9 a.m. to 5 p.m. EST.

Name badge pick-up and on-site registration will be available on December 11 starting at 8 a.m. with the agenda taking place from 9 a.m. until approximately 5 p.m. Refer to the meetings Web site for updated agenda and times at: http://primis.phmsa.dot.gov/meetings/Mtg56.mtg.

Please note that the meetings will not be Web casted. However, presentations will be available on the meetings website within 30 days following the meetings.

ADDRESSES: The meetings will take place at the Westin Arlington Gateway, 801 North Glebe Road, Arlington, VA 22203. The phone numbers for reservation are 1-888-627-7076 or (703) 717-6200. Rooms are reserved at the hotel under USDOT Technical Advisory Committee meetings. For a guaranteed room at the hotel, attendees need to make their reservations no later than November 10, 2008. Priority is given to Committee members and to State Pipeline Safety Representatives. Any additional information or changes as well as a more detailed agenda will be posted on the PHMSA/OPS Web page about 15 days before the meetings take place at: http://PHMSA.dot.gov.

FOR FURTHER INFORMATION CONTACT: Cheryl Whetsel by phone at 202-366-4431 or by e-mail at cheryl.whetsel@dot.gov or Kay McIver by phone at 202 366-0113 or by e-mail at kay.mciver@dot.gov.

SUPPLEMENTARY INFORMATION:

I. Meeting Details

PHMSA's Technical Advisory Committee meetings are open to the public. If time permits, individuals may make a brief statement. Members of the public interested in making a statement are encouraged to contact one of the individuals listed under FOR FURTHER INFORMATION CONTACT by November 24, 2008.

Privacy Act Statement

Anyone may search the electronic form of comments received in response to any of our dockets by the name of the individual submitting the comment (or signing the comment, if submitted on behalf of an association, business, labor union, etc.). DOT's complete Privacy Act Statement was published in the Federal Register on April 11, 2000 (65 FR 19477).

Information on Services for Individuals With Disabilities

For information on facilities or services for individuals with disabilities, or to seek special assistance at the meetings, please contact Kay McIver at 202 366-0113 by November 24, 2008.

II. Committee Background

The TPSSC and THLPSSC are statutorily mandated advisory committees that advise PHMSA on proposed safety standards, risks assessments, and safety policies for natural gas pipelines and for hazardous liquid pipelines. Both committees were established under the Federal Advisory Committee Act (Pub. L. 92-463, 5 U.S.C. App. 1) and the pipeline safety law (49 U.S.C. Chap. 601). Each committee consists of 15 members—with membership evenly divided among the Federal and State government, the regulated industry, and the public. The committees advise PHMSA on technical feasibility, practicability, and cost-effectiveness of each proposed pipeline safety standard.

III. Agenda

The agenda for the meetings will include discussions of comments received for two notices of proposed rulemakings, and to present to the Committees for a final rule vote on these two proposed rules. The two proposed rules for presentation are:

• Control Room Management/Human Factors—on December 11th, a proposal to revise the Federal pipeline safety regulations to address human factors and other components of control room management; and

• Integrity Management Program for Gas Distribution Pipelines—on December 12th, a proposal to amend the Federal pipeline safety regulations to require operators of gas distribution pipelines to develop and implement integrity management (IM) programs.

Authority: 49 U.S.C. 60102, 60115; 60118.

Issued in Washington, DC on October 27, 2008.
Jeffrey D. Wiese,
Associate Administrator for Pipeline Safety.

[FR Doc. E8-26061 Filed 10-30-08; 8:45 am]

BILLING CODE 4910-60-P